DEPARTMENT OF EDUCATION

Brown v. Board of Education 50th Anniversary Commission; Meeting

AGENCY: Brown v. Board of Education 50th Anniversary Commission, U.S. Department of Education (ED).

ACTION: Notice of meeting.

SUMMARY: This notice provides the schedule of a forthcoming meeting of the Brown v. Board of Education 50th Anniversary Commission. This notice also describes the functions of the commission. This document is intended to notify the general public of their opportunity to attend.

DATE AND TIME: March 27, 2003, at 8:45 a.m.

ADDRESSES: Harvard University—Harvard Law School—Pound Hall, 1536 Massachusetts Avenue, Cambridge, MA 02138, (617) 495-3100.

FOR FURTHER INFORMATION CONTACT: Daniel W. Sutherland, Chief of Staff, 330 C Street SW., Washington, DC 20202, (202) 205-8162.

SUPPLEMENTARY INFORMATION: The Brown v. Board of Education 50th Anniversary Commission is established under Public Law 107-41 to commemorate the 50th anniversary of the Brown decision. The Commission, in conjunction with the U.S. Department of Education, is responsible for planning and coordinating public education activities and initiatives. Also, the Commission, in cooperation with the Brown Foundation for Educational Equity, Excellence, and Research in Topeka, Kansas, and such other public or private entities as the Commission deems appropriate, is responsible for encouraging, planning, developing, and coordinating observances of the anniversary of the Brown decision. The meeting of the Commission is open to the public. Individuals who will need accommodations for a disability in order to attend the meeting (i.e., interpreting services, assistive listening devices, materials in alternative format) should notify Gwendolen Long at (202) 205-9556 by no later than March 21, 2003. We will attempt to meet requests after that date, but cannot guarantee availability.

Dated: March 6, 2003.
Gerald A. Reynolds,
Assistant Secretary for Civil Rights.

[FR Doc. 03-5999 Filed 3-12-03; 8:45 am]

BILLING CODE 4000-01-M